DEPARTMENT OF VETERANS AFFAIRS

[OMB Control No. 2900-0717]

Agency Information Collection (Child Care Subsidy) Activity Under OMB Review

AGENCY: Human Resources and Administration, Department of Veterans Affairs.

ACTION: Notice.

SUMMARY: In compliance with the Paperwork Reduction Act (PRA) of 1995 (44 U.S.C. 3501-21), this notice announces that the Office of Human Resources and Administration (OHR&A), Department of Veterans Affairs, will submit the collection of information abstracted below to the Office of Management and Budget (OMB) for review and comment. The PRA submission describes the nature of the information collection and its expected cost and burden; it includes the actual data collection instrument.

DATES: Comments must be submitted on or before February 17, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0717” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0717” in any correspondence.

SUPPLEMENTARY INFORMATION: Titles:

a. Child Care Subsidy Application Form, VA Form 0730a.

b. Child Care Provider Information (For the Child Care Subsidy Program), VA Form 0730b.

OMB Control Number: 2900-0717.

Type of Review: Revision of a currently approved collection.

Abstracts:

a. VA employees complete VA Form 0730a to request participation in VA's child care subsidy program. VA will use the data collected to determine the percentage of monthly cost to be subsidized for child care.

b. VA Form 0730b is completed by the child care provider. The data will be used to determine whether the child care provider is licensed and/or regulated by the state to perform child care.

An agency may not conduct or sponsor, and a person is not required to respond to a collection of information unless it displays a currently valid OMB control number. The Federal Register Notice with a 60-day comment period soliciting comments on this collection of information was published at 79 FR 67241, November 12, 2014.

Affected Public: Individuals or households.

Estimated Annual Burden:

a. VA Form 0730a—500 hours.

b. VA Form 0730b—333 hours.

Estimated Average Burden per Respondent.

a. VA Form 0730a—15 minutes.

b. VA Form 0730B—10 minutes.

Frequency of Response: On occasion.

Estimated Number of Respondents:

a. VA Form 0730a—2,000.

b. VA Form 0730b—2,000.

Dated: January 9, 2015.
By direction of the Secretary.
Crystal Rennie,
Department of Clearance Officer, Department of Veterans Affairs.

[FR Doc. 2015-00483 Filed 1-14-15; 8:45 am]

BILLING CODE 8320-01-P